DEPARTMENT OF AGRICULTURE

Forest Service

Notice of Intent To Prepare an Environmental Impact Statement for the Proposed Skyline Mine Little Eccles Lease by Application in Emery County and Flat Canyon Lease Modification in Sanpete County, Utah; Revised

AGENCY: Forest Service, Agriculture (USDA).

ACTION: Notice; revised.

SUMMARY: On April 15, 2024, in compliance with the National Environmental Policy Act of 1969, as amended (NEPA), the Federal Land Policy and Management Act of 1976, as amended (FLPMA), the National Forest Management Act of 1976 (NFMA), and the Mineral Leasing Act of 1920, as amended (MLA), the U.S. Department of the Interior (DOI), Bureau of Land Management (BLM) Price Field Office, and U.S. Department of Agriculture (USDA), Forest Service (Forest Service) Manti-La Sal National Forest, published a Notice of Intent in the Federal Register, 73 FR 26184 (BLM_FRN_MO4500176455) to prepare an Environmental Impact Statement (EIS) in response to a Lease by Application (LBA) for the Little Eccles Federal Coal Lease Tract (UTU-92226) of 120 acres and a Lease Modification Application (LMA) to add 640 acres to the Flat Canyon Lease Tract (UTU-77114). This notice is revising the previous Notice of Intent with respect to the USDA to announce that the USDA Natural Resources and Environment (NRE), Acting Under Secretary intends to prepare the EIS in response to the LBA for the Little Eccles Federal Coal Lease Tract (UTU-92226) and LMA to the Flat Canyon Lease Tract (UTU-77114). The USDA, Acting Under Secretary for NRE proposes to prepare an EIS in coordination with BLM and issue the project decision of the USDA.

DATES: The USDA plans that the EIS will publish before August 10, 2025, and that the USDA, NRE, Acting Under Secretary will sign the USDA Record of Decision by August 31, 2025.

ADDRESSES: Additional information about the proposal can be found on the following website: https://eplanning.blm.gov/eplanning-ui/project/2015277/510.

FOR FURTHER INFORMATION CONTACT: Barbara Van Alstine, Forest Supervisor, Manti-La Sal National Forest, by email at barbara.vanalstine@usda.gov, by phone at 435-636-3536, 599 W Price River Drive, Suite A, Price, UT 84501.

Individuals who use telecommunication devices for the hearing-impaired may call 711 to reach the Telecommunications Relay Service, 24 hours a day, every day of the year, including holidays.

SUPPLEMENTARY INFORMATION: The EIS will evaluate potential impacts of leasing and underground mining of Federal coal reserves contained in both lease tracts in accordance with the USDA interim final rule published at 7 CFR part 1b on July 3, 2025. A project decision by the Acting Under Secretary constitutes a final administrative determination of the USDA and this project shall not be subject to objections pursuant to 36 CFR 218.13(b).

As described in the April 15, 2024 Notice of Intent to prepare an EIS (73 FR 26184 [BLM_FRN_MO4500176455]), Canyon Fuel Company, LLC, submitted two coal lease applications to the BLM Price Field Office on June 10, 2019. One is an LBA for the Little Eccles Federal Coal Lease Tract of 120 acres in T. 14 S., R. 6 E., SLM, Emery County, Utah sec. 10: SE ¼. The other is an LMA for the existing Flat Canyon Lease Tract to add 660 acres in T. 14 S., R. 5 E., SLM, Sanpete County, Utah sec. 9. Both tracts are adjacent to the existing Skyline Mine which has been in operation since 1981. The surface estate of the lease tracts is administered by the USDA Forest Service Manti-La Sal National Forest. The mineral estate (coal) is administered by the BLM Price Field Office. The BLM and USDA Forest Service, as Federal defendants in WildEarth Guardians v. Haaland (2:16-cv-00168) (D. Utah), have a responsibility under the Settlement Agreement filed March 8, 2023, to complete an EIS under NEPA analyzing whether to lease or to forgo leasing of the coal reserves in the Little Eccles Federal Coal Lease Tract and to modify or forgo lease modification of the Flat Canyon Federal Coal Lease Tract.

Additional Information

Since settlement was reached in WildEarth Guardians v. Haaland, the legal framework for analyzing and reaching a decision on this project has changed considerably. First, the One Big Beautiful Bill Act (OBBB; Public Law 119-21, Section 50201) requires accelerated processing of pending coal lease applications. Within 90 days (i.e., no later than October 2, 2025), the Bureau of Land Management must publish any required environmental review, establish the fair market value, hold a lease sale, and identify the highest bidder for each currently pending lease application.

Next, Section 5 of E.O. 14261, Reinvigorating America's Beautiful Clean Coal Industry and Amending Executive Order 14241, requires the Secretary of Agriculture to prioritize coal leasing and related activities, consistent with applicable law, as the primary land use for the public lands with coal resources identified in a report (described in section 4(a) of the E.O.) and expedite coal leasing in these areas, including by utilizing such emergency authorities as are available to them and identifying opportunities to provide for expedited environmental reviews, consistent with applicable law. The Skyline project is in the Uinta Region—Uinta Basin, Piceance Basin, as identified in the Consolidated Interagency Report in Response to Section 4(a) of Executive Order 14261, Reinvigorating America's Beautiful Clean Coal Industry and Amending Executive Order 14241. This report, in Chapter 3, identifies statutory, regulatory, policy and procedural barriers to coal leasing activities.

Third, on July 3, 2025, the Department of Agriculture issued an interim final rule revising the departmental NEPA regulations at 7 CFR part 1b to provide necessary direction on the implementation of the NEPA in light of the NEPA amendments by the Fiscal Responsibility Act of 2023 and the Council on Environmental Quality rescinding the 40 CFR parts 1500-1508 regulations (effective April 11, 2025). The Acting Under Secretary for NRE has identified processes outlined in the rescinded Forest Service National Environmental Policy Act (NEPA) regulations (36 CFR 220, see 90 FR 29632, 29635 (July 3, 2015)), and the Forest Service pre-decisional objection process, 36 CFR 218, as imposing undue burdens on the processing of coal leasing activities. Particularly, the comment period required by Forest Service NEPA regulations for a draft environmental impact statement, 45-day comment period at the draft EIS stage required by 36 CFR 218, and the pre-decisional objection process for an EIS (45-days to file objections and up to 45 days to respond to objections, as specified by 36 CFR 218) would preclude the Secretary of the Interior from complying with OBBB requirements for coal leasing activities, as previously described.

With the changed statutory and regulatory environment, the Acting Under Secretary for NRE is proposing preparation of an EIS for the Skyline project and will be the responsible official for the Record of Decision. The Acting Under Secretary for NRE intends to issue the environmental impact statement and record of decision under the NEPA regulations at 7 CFR 1b, Sections 1b.7 and 1b.8. This change will expedite coal leasing in the Uinta Region—Uinta Basin, Piceance Basin, in compliance with E.O. 14261, and accelerate the processing of pending coal lease applications as required by OBBB. The process is further expedited by eliminating the requirement for a pre-decisional objection process in accordance with 36 CFR 218, Section 218.13.

Purpose and Need for Action; Proposed Action; Alternatives; Anticipated Permits, Licenses, and Other Authorizations

See April 15, 2024 Notice of Intent to prepare an EIS (73 FR 26184 [BLM_FRN_MO4500176455]) for information on these actions.

List of Substantive Issues

The issues and a summary of expected impacts for the action alternatives are as follows:

Air Quality: Maximum and average annual CAP and HAP emissions remain the same as current annual emissions. No additional impacts on air quality, cancer and non-cancer risks, or AQRVs are expected.

Greenhouse Gas Emissions: The life of the mine would extend by 19 to 11 months. Mining activities, coal transport, coal combustion, and annual GHG emissions would continue to occur at the same rate as current rates. However, the total recoverable coal would increase and total GHG emissions from mining, downstream processing, and combustion of the coal would increase.

Geology: There would be 19.3 to 15.9 million tons mined. Any reactivation of faults within the Blackhawk Formation could fill with clay or ground-up rock and limit the reopening or creation of new hydrologic pathways intersecting the surface. Less than 0.5% of the area that could experience subsidence would be subject to tensile fractures. It is unlikely that appreciable surface cracking would result from the subsidence predicted. No unacceptable seismic risk would be created to the Electric Lake or Boulger dams.

Hydrology: Minimal impacts to water quantity, water availability, surface water, and to water balance and water quality of Electric Lake and Scofield, Huntington, and Cleveland Reservoirs are expected. No water balance or quality effects on water rights, users, or designated uses are expected. Impacts on the shallow ground water systems that support springs and seeps and provide baseflow to streams are not anticipated. Detrimental impacts on water quality parameters such as acidity, total suspended solids, and total dissolved solids in creeks and springs are considered unlikely.

The reduction of water volume or water balance of water bodies from interception of faults during mining is unlikely. The small volume of dewatering discharge relative to the capacity of Electric Lake, as well as the natural sources of volume changes in Electric Lake, would make it unlikely that any increase in volume would be identifiable or measurable.

Vegetation and Botany: No rare plant species would be affected. Some individual plants in a less than 10-acre area may be affected by tensile fissuring, but overall community composition would not be appreciably altered. Water volume delivered to wetlands, riparian areas, seeps and springs is not expected to change. Shifts in stream morphology may occur due to subsidence, but overall acreages of wetlands and riparian areas are not expected to change appreciably.

Fish and Wildlife (Aquatic and Terrestrial Species): There would be no effect on endangered species. The alternatives are not likely to jeopardize continued existence or adversely modify proposed critical habitat. No impacts on Forest Service sensitive species. The alternatives may impact individual American three-toed woodpecker and American (northern) goshawk, but are not likely to cause a trend to federal listing or loss of viability.

Approximately 9.6 to 7.5 acres of migratory bird habitat could experience subsidence-related tensile fractures within the subsidence area. A small number of individual plants along the fractures could experience mortality or reduced growth. A small number of trees may be become unstable and fall. No widespread reduction of foraging resources, cover, or water resources would occur. Nests could be destroyed if a tree falls that contains a nest, although the likelihood of this happening is low given that surface fractures would be localized and expected to affect a small portion (0.4 percent) of the wildlife analysis area.

Approximately 9.6 to 7.5 acres of big game crucial summer range could experience subsidence-related tensile fractures but no widespread reduction of foraging resources, cover, or water resources or decrease in habitat quality in the analysis area would occur. No reduction in herd numbers is expected.

Socioeconomics: Employment would be extended 8 months to one year. Economic output would total more than $1.5 to $1.3 billion over the life of the mine generating additional tax revenues. Estimated coal production would result in higher mineral lease distributions to the State and affected counties.

Schedule for the Decision Making Process

The Forest Service, along with BLM, previously published a Notice of Intent (NOI) to prepare an environmental impact statement for the Skyline Mine Little Eccles Lease by Application project on April 15, 2024. The NOI outlined a schedule for the decision-making process; however, this was prior to the issuance of E.O. 14261 in January 2025, recission of the CEQ NEPA regulations in April 2025, and issuance of the USDA NEPA regulations interim final rule in July 2025, and enactment of new statutory authority in the OBBB in July 2025. To comply with the OBBB, it is anticipated that both the DOI and USDA will publish an EIS before August 10, 2025, and sign the Records of Decision by August 31, 2025.

Lead and Cooperating Agencies

The USDA's Forest Service, at the direction of USDA, NRE is the co-lead agency with the BLM. See April 15, 2024 Notice of Intent to prepare an EIS (73 FR 26184 [BLM_FRN_MO4500176455]) for information on other agencies.

Responsible Official

The responsible official for the Department of Agriculture is the Acting Under Secretary for NRE. The scope of USDA's decision is limited to consenting to lease. See April 15, 2024 Notice of Intent to prepare an EIS (73 FR 26184 [BLM_FRN_MO4500176455]) for more information.

Previous Public Scoping Process

Under the Forest Service's previous NEPA regulations at 36 CFR 220, a Notice of Intent to prepare an EIS was previously published in the Federal Register on April 15, 2024, 73 FR 26184 [BLM_FRN_MO4500176455]) followed by a 45-day public scoping period ending on May 30, 2024. The lead agencies considered the input received during public scoping. A scoping report summarizing the pertinent comments within these submissions and the public scoping process is available at https://eplanning.blm.gov/eplanning-ui/project/2015277/510.

Public Comment

USDA is relying on the comments requested when the Forest Service published the initial NOI in April 2024. A copy of the Skyline Mine Little Eccles Lease and Flat Canyon Lease Modification Environmental Impact Statement Scoping Report is located at: https://eplanning.blm.gov/eplanning-ui/project/2015277/570.

Kristin Sleeper,
Acting Under Secretary, Natural Resources and Environment.

[FR Doc. 2025-14322 Filed 7-28-25; 8:45 am]

BILLING CODE 3411-15-P